DEPARTMENT OF ENERGY

Federal Energy Regulatory Commission

18 CFR Part 385

[Docket No. RM18-7-000; Order No. 846]

Withdrawal of Pleadings

AGENCY: Federal Energy Regulatory Commission.

ACTION: Final rule; errata notification.

SUMMARY: This document contains corrections to the final rule (RM18-7-000) which published in the Federal Register of Wednesday, May 23, 2018.

DATES: Effective June 22, 2018.

FOR FURTHER INFORMATION CONTACT: Vince Mareino, 888 First Street NE, Washington, DC 20426, (202) 502-6167, Vince.Mareino@ferc.gov.

SUPPLEMENTARY INFORMATION: 1. On May 17, 2018, the Commission issued a Final Rule in the above captioned proceeding. Withdrawal of Pleadings, 163 FERC ¶ 61,118 (2018), see 83 FR 23807. This errata notification hereby corrects paragraph 11 of the Final Rule by deleting the second sentence that was inadvertently included. Accordingly, paragraph 11 is corrected to read as follows: “These regulations are effective June 22, 2018.”

Issued: May 24, 2018.
Kimberly D. Bose,
Secretary.

[FR Doc. 2018-11639 Filed 5-30-18; 8:45 am]

BILLING CODE 6717-01-P